DEPARTMENT OF COMMERCE

International Trade Administration

Initiation of Antidumping and Countervailing Duty Administrative Reviews

AGENCY: Enforcement and Compliance, International Trade Administration, Department of Commerce.

SUMMARY: The Department of Commerce (Commerce) has received requests to conduct administrative reviews of various antidumping duty (AD) and countervailing duty (CVD) orders with November anniversary dates. In accordance with Commerce's regulations, we are initiating those administrative reviews.

DATES: Applicable December 28, 2021.

FOR FURTHER INFORMATION CONTACT: Brenda E. Brown, AD/CVD Operations, Customs Liaison Unit, Enforcement and Compliance, International Trade Administration, U.S. Department of Commerce, 1401 Constitution Avenue NW, Washington, DC 20230, telephone: (202) 482-4735.

SUPPLEMENTARY INFORMATION:

Background

Commerce has received timely requests, in accordance with 19 CFR 351.213(b), for administrative reviews of various AD and CVD orders with November anniversary dates.

All deadlines for the submission of various types of information, certifications, or comments or actions by Commerce discussed below refer to the number of calendar days from the applicable starting time.

Notice of No Sales

If a producer or exporter named in this notice of initiation had no exports, sales, or entries during the period of review (POR), it must notify Commerce within 30 days of publication of this notice in the Federal Register. All submissions must be filed electronically at https://access.trade.gov, in accordance with 19 CFR 351.303.¹ Such submissions are subject to verification, in accordance with section 782(i) of the Tariff Act of 1930, as amended (the Act). Further, in accordance with 19 CFR 351.303(f)(1)(i), a copy must be served on every party on Commerce's service list.

¹ See Antidumping and Countervailing Duty Proceedings: Electronic Filing Procedures; Administrative Protective Order Procedures, 76 FR 39263 (July 6, 2011).

Respondent Selection

In the event Commerce limits the number of respondents for individual examination for administrative reviews initiated pursuant to requests made for the orders identified below, Commerce intends to select respondents based on U.S. Customs and Border Protection (CBP) data for U.S. imports during the POR. We intend to place the CBP data on the record within five days of publication of the initiation notice and to make our decision regarding respondent selection within 35 days of publication of the initiation Federal Register notice. Comments regarding the CBP data and respondent selection should be submitted within seven days after the placement of the CBP data on the record of this review. Parties wishing to submit rebuttal comments should submit those comments within five days after the deadline for the initial comments.

In the event Commerce decides it is necessary to limit individual examination of respondents and conduct respondent selection under section 777A(c)(2) of the Act, the following guidelines regarding collapsing of companies for purposes of respondent selection will apply. In general, Commerce has found that determinations concerning whether particular companies should be “collapsed” (e.g., treated as a single entity for purposes of calculating antidumping duty rates) require a substantial amount of detailed information and analysis, which often require follow-up questions and analysis. Accordingly, Commerce will not conduct collapsing analyses at the respondent selection phase of this review and will not collapse companies at the respondent selection phase unless there has been a determination to collapse certain companies in a previous segment of this AD proceeding (e.g., investigation, administrative review, new shipper review, or changed circumstances review). For any company subject to this review, if Commerce determined, or continued to treat, that company as collapsed with others, Commerce will assume that such companies continue to operate in the same manner and will collapse them for respondent selection purposes. Otherwise, Commerce will not collapse companies for purposes of respondent selection. Parties are requested to (a) identify which companies subject to review previously were collapsed, and (b) provide a citation to the proceeding in which they were collapsed. Further, if companies are requested to complete the Quantity and Value (Q&V) Questionnaire for purposes of respondent selection, in general, each company must report volume and value data separately for itself. Parties should not include data for any other party, even if they believe they should be treated as a single entity with that other party. If a company was collapsed with another company or companies in the most recently completed segment of this proceeding where Commerce considered collapsing that entity, complete Q&V data for that collapsed entity must be submitted.

Deadline for Withdrawal of Request for Administrative Review

Pursuant to 19 CFR 351.213(d)(1), a party that has requested a review may withdraw that request within 90 days of the date of publication of the notice of initiation of the requested review. The regulation provides that Commerce may extend this time if it is reasonable to do so. Determinations by Commerce to extend the 90-day deadline will be made on a case-by-case basis.

Deadline for Particular Market Situation Allegation

Section 504 of the Trade Preferences Extension Act of 2015 amended the Act by adding the concept of a particular market situation (PMS) for purposes of constructed value under section 773(e) of the Act.² Section 773(e) of the Act states that “if a particular market situation exists such that the cost of materials and fabrication or other processing of any kind does not accurately reflect the cost of production in the ordinary course of trade, the administering authority may use another calculation methodology under this subtitle or any other calculation methodology.” When an interested party submits a PMS allegation pursuant to section 773(e) of the Act, Commerce will respond to such a submission consistent with 19 CFR 351.301(c)(2)(v). If Commerce finds that a PMS exists under section 773(e) of the Act, then it will modify its dumping calculations appropriately.

² See Trade Preferences Extension Act of 2015, Public Law 114-27, 129 Stat. 362 (2015).

Neither section 773(e) of the Act nor 19 CFR 351.301(c)(2)(v) set a deadline for the submission of PMS allegations and supporting factual information. However, in order to administer section 773(e) of the Act, Commerce must receive PMS allegations and supporting factual information with enough time to consider the submission. Thus, should an interested party wish to submit a PMS allegation and supporting new factual information pursuant to section 773(e) of the Act, it must do so no later than 20 days after submission of initial responses to section D of the questionnaire.

Separate Rates

In proceedings involving non-market economy (NME) countries, Commerce begins with a rebuttable presumption that all companies within the country are subject to government control and, thus, should be assigned a single antidumping duty deposit rate. It is Commerce's policy to assign all exporters of merchandise subject to an administrative review in an NME country this single rate unless an exporter can demonstrate that it is sufficiently independent so as to be entitled to a separate rate.

To establish whether a firm is sufficiently independent from government control of its export activities to be entitled to a separate rate, Commerce analyzes each entity exporting the subject merchandise. In accordance with the separate rates criteria, Commerce assigns separate rates to companies in NME cases only if respondents can demonstrate the absence of both de jure and de facto government control over export activities.

All firms listed below that wish to qualify for separate rate status in the administrative reviews involving NME countries must complete, as appropriate, either a separate rate application or certification, as described below. For these administrative reviews, in order to demonstrate separate rate eligibility, Commerce requires entities for whom a review was requested, that were assigned a separate rate in the most recent segment of this proceeding in which they participated, to certify that they continue to meet the criteria for obtaining a separate rate. The Separate Rate Certification form will be available on Commerce's website at https://enforcement.trade.gov/nme/nme-sep-rate.html on the date of publication of this Federal Register notice. In responding to the certification, please follow the “Instructions for Filing the Certification” in the Separate Rate Certification. Separate Rate Certifications are due to Commerce no later than 30 calendar days after publication of this Federal Register notice. The deadline and requirement for submitting a Certification applies equally to NME-owned firms, wholly foreign-owned firms, and foreign sellers who purchase and export subject merchandise to the United States.

Entities that currently do not have a separate rate from a completed segment of the proceeding ³ should timely file a Separate Rate Application to demonstrate eligibility for a separate rate in this proceeding. In addition, companies that received a separate rate in a completed segment of the proceeding that have subsequently made changes, including, but not limited to, changes to corporate structure, acquisitions of new companies or facilities, or changes to their official company name,⁴ should timely file a Separate Rate Application to demonstrate eligibility for a separate rate in this proceeding. The Separate Rate Application will be available on Commerce's website at https://enforcement.trade.gov/nme/nme-sep-rate.html on the date of publication of this Federal Register notice. In responding to the Separate Rate Application, refer to the instructions contained in the application. Separate Rate Applications are due to Commerce no later than 30 calendar days after publication of this Federal Register notice. The deadline and requirement for submitting a Separate Rate Application applies equally to NME-owned firms, wholly foreign-owned firms, and foreign sellers that purchase and export subject merchandise to the United States.

³ Such entities include entities that have not participated in the proceeding, entities that were preliminarily granted a separate rate in any currently incomplete segment of the proceeding (e.g., an ongoing administrative review, new shipper review, etc.) and entities that lost their separate rate in the most recently completed segment of the proceeding in which they participated.

⁴ Only changes to the official company name, rather than trade names, need to be addressed via a Separate Rate Application. Information regarding new trade names may be submitted via a Separate Rate Certification.

Exporters and producers must file a timely Separate Rate Application or Certification if they want to be considered for respondent selection. Furthermore, exporters and producers who submit a Separate Rate Application or Certification and subsequently are selected as mandatory respondents will no longer be eligible for separate rate status unless they respond to all parts of the questionnaire as mandatory respondents.

Initiation of Reviews

In accordance with 19 CFR 351.221(c)(1)(i), we are initiating administrative reviews of the following AD and CVD orders and findings. We intend to issue the final results of these reviews not later than November 30, 2022.

| Period to be reviewed
AD Proceedings
AUSTRIA: Strontium Chromate, A-433-813 | 11/1/20-10/31/21
Habich GmbH
FRANCE: Strontium Chromate, A-427-830 | 11/1/20-10/31/21
Societe Nouvelle des Couleurs Zinciques
INDIA: Welded Stainless Pressure Pipe, A-533-867 | 11/1/20-10/31/21
Apex Tubes Private Ltd
Apurvi Industries
Arihant Tubes
Divine Tubes Pvt. Ltd
Heavy Metal & Tubes
Hindustan Inox, Ltd
J.S.S. Steelitalia Ltd
Linkwell Seamless Tubes Private Limited
Maxim Tubes Company Pvt. Ltd
MBM Tubes Pvt. Ltd
Mukat Tanks & Vessel Ltd
Neotiss Ltd
Prakash Steelage Ltd
Quality Stainless Pvt. Ltd
Raajratna Metal Industries Ltd
Ratnadeep Metal & Tubes Ltd
Ratnamani Metals & Tubes Ltd
Remi Edelstahl Tubulars
Shubhlaxmi Metals & Tubes Private Limited
SLS Tubes Pvt. Ltd
Steamline Industries Ltd
INDONESIA: Monosodium Glutamate, A-560-826 | 11/1/20 -10/31/21
PT Cheil Jedang Indonesia
PT Miwon Indonesia
MEXICO: Seamless Refined Copper Pipe and Tube, A-201-838 | 11/1/20-10/31/21
GD Affiliates S. de R.L. de C.V
Nacional de Cobre, S.A. de C.V
IUSA, S.A. de C.V
MEXICO: Steel Concrete Reinforcing Bar, A-201-844 | 11/1/20-10/31/21
Aceros Especiales Simec Tlaxcala, S.A. de C.V
ArcelorMittal Mexico SA de CV
Compania Siderurgica del Pacifico S.A. de C.V
Deacero S.A.P.I. de C.V
Fundiciones de Acero Estructurales, S.A. de C.V
Grupo Acerero S.A. de C.V
Grupo Simec
Grupo Chant, S.A.P.I. de C.V
Operadora de Perfiles Sigosa,S.A. de C.V
Orge S.A. de C.V
Perfiles Comerciales Sigosa, S.A. de C.V
RRLC S.A.P.I. de C.V
Sidertul S.A. de C.V
Siderurgica del Occidente y Pacifico S.A. de C.V
Siderurgicos Noroeste, S.A. de C.V
Simec International, S.A. de C.V
Simec International 6 S.A. de C.V
Simec International 7 S.A. de C.V
Simec International 9 S.A. de C.V
REPUBLIC OF KOREA: Certain Circular Welded Non-Alloy Steel Pipe, A-580-809 | 11/1/20-10/31/21
Aju Besteel
Bookook Steel
Chang Won Bending
Dae Ryung
Daewoo Shipbuilding & Marine Engineering (Dsme)
Daiduck Piping
Dong Yang Steel Pipe
Dongbu Steel
Eew Korea Company
Histeel
Husteel Co., Ltd
Hyundai Rb
Hyundai Steel (Pipe Division)
Hyundai Steel Company
Kiduck Industries
Kum Kang Kind
Kumsoo Connecting
Miju Steel Mfg
Nexteel Co., Ltd
Samkang M & T
Seah Fs
Seah Steel
Steel Flower
Vesta Co., Ltd
Ycp Co
THE PEOPLE'S REPUBLIC OF CHINA: Diamond Sawblades and Parts Thereof, A-570-900 | 11/1/20-10/31/21
ASHINE Diamond Tools Co., Ltd
Bosun Tools Co., Ltd
Chengdu Huifeng New Material Technology Co. Ltd
Danyang City Ou Di Ma Tools Co., Ltd
Danyang Hantronic Import & Export Co., Ltd
Danyang Huachang Diamond Tool Manufacturing Co., Ltd
Danyang Like Tools Manufacturing Co., Ltd
Danyang NYCL Tools Manufacturing Co., Ltd
Danyang Tongyu Tools Co., Ltd
Danyang Tsunda Diamond Tools Co., Ltd
Danyang Weiwang Tools Manufacturing Co., Ltd
Diamond Tools Technology (Thailand) Co., Ltd
Fujian Quanzhou Aotu Precise Machine Co., Ltd
Guilin Tebon Superhard Material Co., Ltd
Hangzhou Deer King Industrial and Trading Co., Ltd
Hangzhou Kingburg Import & Export Co., Ltd
Hebei XMF Tools Group Co., Ltd
Henan Huanghe Whirlwind International Co., Ltd
Hong Kong Hao Xin International Group Limited
Hubei Changjiang Precision Engineering Materials Technology Co., Ltd
Hubei Sheng Bai Rui Diamond Tools Co., Ltd
Husqvarna (Hebei) Co., Ltd
Huzhou Gu's Import & Export Co., Ltd
Jiangsu Fengtai Diamond Tool Manufacture Co., Ltd
Jiangsu Fengtai Diamond Tools Co., Ltd
Jiangsu Huachang Diamond Tools Manufacturing Co., Ltd
Jiangsu Inter-China Group Corporation
Jiangsu Yaofeng Tools Co., Ltd
Jiangsu Youhe Tool Manufacturer Co., Ltd
Orient Gain International Limited
Pantos Logistics (HK) Company Limited
Protec Tools Co., Ltd
Pujiang Talent Diamond Tools Co., Ltd
Qingdao Hyosung Diamond Tools Co., Ltd
Qingdao Shinhan Diamond Industrial Co., Ltd
Qingyuan Shangtai Diamond Tools Co., Ltd
Quanzhou Sunny Superhard Tools Co., Ltd
Quanzhou Zhongzhi Diamond Tool Co., Ltd
Rizhao Hein Saw Co., Ltd
Saint-Gobain Abrasives (Shanghai) Co., Ltd
Shanghai Jingquan Industrial Trade Co., Ltd
Shanghai Starcraft Tools Co. Ltd
Shanghai Vinon Tools Industrial Co
Sino Tools Co., Ltd
Weihai Xiangguang Mechanical Industrial Co., Ltd
Wuhan Baiyi Diamond Tools Co., Ltd
Wuhan Sadia Trading Co., Ltd
Wuhan Wanbang Laser Diamond Tools Co. Ltd
Wuhan ZhaoHua Technology Co., Ltd
Xiamen ZL Diamond Technology Co., Ltd
Zhejiang Wanli Tools Group Co., Ltd
ZL Diamond Technology Co., Ltd
ZL Diamond Tools Co., Ltd
THE PEOPLE'S REPUBLIC OF CHINA: Fresh Garlic, A-570-831 | 11/1/20-10/31/21
Laiwu Ever Green Food Co., Ltd
Laiwu Manhing Vegetables Fruits Corp
Shandong Dongsheng Eastsun Foods Co., Ltd
Wu Qiang Xian Long Gao Trading LLC
Zhengzhou Harmoni Spice Co., Ltd
THE PEOPLE'S REPUBLIC OF CHINA: Forged Steel Fittings, A-570-067 | 11/1/20-10/31/21
Both-Well (Taizhou) Steel Fittings Co., Ltd
Cixi Baicheng Hardware Tools, Ltd
Dalian Guangming Pipe Fittings Co., Ltd
Eaton Hydraulics (Luzhou) Co., Ltd
Eaton Hydraulics (Ningbo) Co., Ltd
Jiangsu Forged Pipe Fittings Co., Ltd
Jiangsu Haida Pipe Fittings Group Co
Jinan Mech Piping Technology Co., Ltd
Jining Dingguan Precision Parts Manufacturing Co., Ltd
Lianfa Stainless Steel Pipes & Valves (Qingyun) Co., Ltd
Luzhou City Chengrun Mechanics Co., Ltd
Ningbo HongTe Industrial Co., Ltd
Ningbo Long Teng Metal Manufacturing Co., Ltd
Ningbo Save Technology Co., Ltd
Ningbo Zhongan Forging Co., Ltd
Q.C. Witness International Co., Ltd
Qingdao Bestflow Industrial Co., Ltd
Shanghai Lon Au Stainless Steel Materials Co., Ltd
Witness International Co., Ltd
Xin Yi International Trade Co., Limited
Yancheng Boyue Tube Co., Ltd
Yancheng Haohui Pipe Fittings Co., Ltd
Yancheng Jiuwei Pipe Fittings Co., Ltd
Yancheng Manda Pipe Industry Co., Ltd
Yingkou Guangming Pipeline Industry Co., Ltd
Yuyao Wanlei Pipe Fitting Manufacturing Co., Ltd
THE PEOPLE'S REPUBLIC OF CHINA: Polyethylene Terephthalate (Pet) Film, A-570-924 | 11/1/20-10/31/21
Fuwei Films (Shandong) Co., Ltd
Shaoxing Xiangyu Green Packing Co., Ltd
Sichuan Dongfang Insulating Material Co., Ltd
Tianjin Wanhua Co., Ltd
CVD Proceedings
INDIA: Stainless Steel Flanges, C-533-878 | 1/1/20-12/31/20
Jay Jagdamba Forgings Private Limited ⁵
Katariya Steel Distributors ⁶
THE PEOPLE'S REPUBLIC OF CHINA: Chlorinated Isocyanurates, C-570-991 | 1/1/20-12/31/20
Hebei Jiheng Chemical Co., Ltd
Heze Huayi Chemical Co., Ltd
Juancheng Kangtai Chemical Co., Ltd
THE PEOPLE'S REPUBLIC OF CHINA: Forged Steel Fittings, C-570-068 | 1/1/20-12/31/20
Both-Well (Taizhou) Steel Fittings Co., Ltd
Cixi Baicheng Hardware Tools, Ltd
Dalian Guangming Pipe Fittings Co., Ltd
Eaton Hydraulics (Luzhou) Co., Ltd
Eaton Hydraulics (Ningbo) Co., Ltd
Jiangsu Forged Pipe Fittings Co., Ltd
Jiangsu Haida Pipe Fittings Group Co. Ltd
Jinan Mech Piping Technology Co., Ltd
Jining Dingguan Precision Parts Manufacturing Co., Ltd
Lianfa Stainless Steel Pipes & Valves (Qingyun) Co., Ltd
Luzhou City Chengrun Mechanics Co., Ltd
Ningbo HongTe Industrial Co., Ltd
Ningbo Long Teng Metal Manufacturing Co., Ltd
Ningbo Save Technology Co., Ltd
Ningbo Zhongan Forging Co., Ltd
Q.C. Witness International Co., Ltd
Qingdao Bestflow Industrial Co., Ltd
Shanghai Lon Au Stainless Steel Materials Co., Ltd
Witness International Co., Ltd
Xin Yi International Trade Co., Limited
Yancheng Boyue Tube Co., Ltd
Yancheng Haohui Pipe Fittings Co., Ltd
Yancheng Jiuwei Pipe Fittings Co., Ltd
Yancheng Manda Pipe Industry Co., Ltd
Yingkou Guangming Pipeline Industry Co., Ltd
Yuyao Wanlei Pipe Fitting Manufacturing Co., Ltd
TURKEY: Steel Concrete Reinforcing Bar, C-489-819 | 1/1/20-12/31/20
Acemar International Limited
A G Royce Metal Marketing
Agir Haddecilik A.S
Ans Kargo Lojistik Tas ve Tic
As Gaz Sinai ve Tibbi Gazlar A.S
Asil Celik Sanayi ve Ticaret A.S
Bastug Metalurji Sanayi AS
Baykan Dis Ticaret
Colakoglu Dis Ticaret A.S. and Colakoglu Metalurji A.S⁷
Demirsan Haddecilik Sanayi Ve Ticaret AS
Diler Dis Ticaret AS
Ege Celik Endustrisi Sanayi ve Ticaret A.S
Icdas Celik Enerji Tersane ve Ulasim Sanayi A.S⁸
Izmir Demir Celik Sanayi A.S
Kaptan Demir Celik Endustrisi ve Ticaret A.S. and Kaptan Metal Dis Ticaret ve Nakliyat A.S⁹
Kibar dis Ticaret A.S
Kocaer Haddecilik Sanayi Ve Ticar A.S
Meral Makina Iml Ith Ihr Gida
Mettech Metalurji Madencilik Muhendislik Uretim Danismanlik ve Ticaret Limited Sirketi
MMZ Onur Boru Profil A.S
Ozkan Demir Celik Sanayi A.S
Sami Soybas Demir Sanayi ve Ticaret
Wilmar Europe Trading BV
Yucel Boru Ihracat Ithalat ve Pazarlama

⁵ This company's name was incorrect in the initiation notice that published on November 29, 2021 (86 FR 67685).

⁶ This company was omitted from the initiation notice that published on November 29, 2021 (86 FR 67685).

⁷ Commerce previously found these companies to be cross owned. See Steel Concrete Reinforcing Bar from the Republic of Turkey: Final Results and Partial Rescission of Countervailing Duty Administrative Review; 2015, 83 FR 16051 (April 13. 2018).

⁸ Commerce previously found this company to be cross owned with: Mardas Marmara Deniz Isletmeciligi A.S.; Artmak Denizcilik Ticaret ve Sanayi A.S.; Oraysan Insaat Sanayi ve Ticaret A.S.; Artim Demir Insaat Turizm Sanayi Ticaret Ltd. Sti.; Anka Entansif Hayvancilik Gida Tarim Sanayi ve Ticaret A.S.; Eras Tasimacilik Taahhut Insaat ve Ticaret A.S.; and Karsan Gemi Insaa Sanayi Ticaret A.S. See Steel Concrete Reinforcing Bar from the Republic of Turkey: Final Results of Countervailing Duty Administrative Review and Rescission, in part; 2018, 86 FR 53279 (September 27, 2021).

⁹ Commerce previously found these companies to be cross owned with: Kaptan Is Makinalari Hurda Alim Satim Ltd. Sti; Efesan Demir San. Ve Tic. A.S.; Martas Marmara Ereglisi Liman Tesisleri A.S.; Aset Madencilik A.S.; and Nur Gemicilik ve Tic. A.S. See Steel Concrete Reinforcing Bar from the Republic of Turkey: Final Results of Countervailing Duty Administrative Review and Rescission, in Part; 2018, 86 FR 53279 (September 27, 2021).

Suspension Agreements

None.

Duty Absorption Reviews

During any administrative review covering all or part of a period falling between the first and second or third and fourth anniversary of the publication of an AD order under 19 CFR 351.211 or a determination under 19 CFR 351.218(f)(4) to continue an order or suspended investigation (after sunset review), Commerce, if requested by a domestic interested party within 30 days of the date of publication of the notice of initiation of the review, will determine whether AD duties have been absorbed by an exporter or producer subject to the review if the subject merchandise is sold in the United States through an importer that is affiliated with such exporter or producer. The request must include the name(s) of the exporter or producer for which the inquiry is requested.

Gap Period Liquidation

For the first administrative review of any order, there will be no assessment of antidumping or countervailing duties on entries of subject merchandise entered, or withdrawn from warehouse, for consumption during the relevant “gap” period of the order (i.e., the period following the expiry of provisional measures and before definitive measures were put into place), if such a gap period is applicable to the POR.

Administrative Protective Orders and Letters of Appearance

Interested parties must submit applications for disclosure under administrative protective orders in accordance with the procedures outlined in Commerce's regulations at 19 CFR 351.305. Those procedures apply to administrative reviews included in this notice of initiation. Parties wishing to participate in any of these administrative reviews should ensure that they meet the requirements of these procedures (e.g., the filing of separate letters of appearance as discussed at 19 CFR 351.103(d)).

Factual Information Requirements

Commerce's regulations identify five categories of factual information in 19 CFR 351.102(b)(21), which are summarized as follows: (i) Evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). These regulations require any party, when submitting factual information, to specify under which subsection of 19 CFR 351.102(b)(21) the information is being submitted and, if the information is submitted to rebut, clarify, or correct factual information already on the record, to provide an explanation identifying the information already on the record that the factual information seeks to rebut, clarify, or correct. The regulations, at 19 CFR 351.301, also provide specific time limits for such factual submissions based on the type of factual information being submitted. Please review the Final Rule,¹⁰ available at www.govinfo.gov/content/pkg/FR-2013-07-17/pdf/2013-17045.pdf, prior to submitting factual information in this segment. Note that Commerce has temporarily modified certain of its requirements for serving documents containing business proprietary information, until further notice.¹¹

¹⁰ See Certification of Factual Information To Import Administration During Antidumping and Countervailing Duty Proceedings, 78 FR 42678 (July 17, 2013) (Final Rule); see also the frequently asked questions regarding the Final Rule, available at https://enforcement.trade.gov/tlei/notices/factual_info_final_rule_FAQ_07172013.pdf.

¹¹ See Temporary Rule Modifying AD/CVD Service Requirements Due to COVID-19, 85 FR 41363 (July 10, 2020).

Any party submitting factual information in an AD or CVD proceeding must certify to the accuracy and completeness of that information using the formats provided at the end of the Final Rule.¹² Commerce intends to reject factual submissions in any proceeding segments if the submitting party does not comply with applicable certification requirements.

¹² See section 782(b) of the Act; see also Final Rule; and the frequently asked questions regarding the Final Rule, available at https://enforcement.trade.gov/tlei/notices/factual_info_final_rule_FAQ_07172013.pdf.

Extension of Time Limits Regulation

Parties may request an extension of time limits before a time limit established under Part 351 expires, or as otherwise specified by Commerce.¹³ In general, an extension request will be considered untimely if it is filed after the time limit established under Part 351 expires. For submissions which are due from multiple parties simultaneously, an extension request will be considered untimely if it is filed after 10:00 a.m. on the due date. Examples include, but are not limited to: (1) Case and rebuttal briefs, filed pursuant to 19 CFR 351.309; (2) factual information to value factors under 19 CFR 351.408(c), or to measure the adequacy of remuneration under 19 CFR 351.511(a)(2), filed pursuant to 19 CFR 351.301(c)(3) and rebuttal, clarification and correction filed pursuant to 19 CFR 351.301(c)(3)(iv); (3) comments concerning the selection of a surrogate country and surrogate values and rebuttal; (4) comments concerning CBP data; and (5) Q&V questionnaires. Under certain circumstances, Commerce may elect to specify a different time limit by which extension requests will be considered untimely for submissions which are due from multiple parties simultaneously. In such a case, Commerce will inform parties in the letter or memorandum setting forth the deadline (including a specified time) by which extension requests must be filed to be considered timely. This policy also requires that an extension request must be made in a separate, stand-alone submission, and clarifies the circumstances under which Commerce will grant untimely-filed requests for the extension of time limits. Please review the Final Rule, available at https://www.gpo.gov/fdsys/pkg/FR-2013-09-20/html/2013-22853.htm, prior to submitting factual information in these segments.

¹³ See 19 CFR 351.302.

These initiations and this notice are in accordance with section 751(a) of the Act (19 U.S.C. 1675(a)) and 19 CFR 351.221(c)(1)(i).

Dated: December 21, 2021.
James Maeder,
Deputy Assistant Secretary for Antidumping and Countervailing Duty Operations.

[FR Doc. 2021-28172 Filed 12-27-21; 8:45 am]

BILLING CODE 3510-DS-P